DEPARTMENT OF COMMERCE

Bureau of Industry and Security

15 CFR Part 744

[Docket No. 120813330-2330-01]

RIN 0694-AF74

Addition of Certain Persons to the Entity List; Removal of Person From the Entity List Based on Removal Request; and Implementation of Entity List Annual Review Changes

AGENCY: Bureau of Industry and Security, Commerce.

ACTION: Final rule.

SUMMARY: This rule amends the Export Administration Regulations (EAR) by adding six persons under eight entries to the Entity List. The persons who are added to the Entity List have been determined by the U.S. Government to be acting contrary to the national security or foreign policy interests of the United States. These persons will be listed on the Entity List under Iran and the United Arab Emirates (U.A.E.).

In addition, this rule removes one person from the Entity List, as the result of a request for removal submitted by the person, a review of information provided in the removal request in accordance with the EAR, and further review conducted by the End-User Review Committee (ERC).

Lastly, this rule amends the Entity List on the basis of the annual review conducted by the ERC. The ERC conducts annual reviews to determine if any entries on the Entity List should be removed or modified. This rule reflects the results of the annual review of entities located in Belarus, Canada, the People's Republic of China (China), Egypt, Germany, Hong Kong, Ireland, Israel, Kuwait, Lebanon, Malaysia, Pakistan, Singapore, South Africa, Taiwan, and the United Kingdom. On the basis of the annual review, this rule removes fourteen entries, adds three entries, and amends thirty-six other entries. The Entity List provides notice to the public that certain exports, reexports, and transfers (in-country) to entities identified on the Entity List require a license from the Bureau of Industry and Security (BIS) and that availability of license exceptions in such transactions is limited.

DATES: Effective Date: This rule is effective September 19, 2012.

FOR FURTHER INFORMATION CONTACT: Karen Nies-Vogel, Chair, End-User Review Committee, Office of the Assistant Secretary, Export Administration, Bureau of Industry and Security, Department of Commerce, Phone: (202) 482-5991, Fax: (202) 482-3911, Email: ERC@bis.doc.gov.

SUPPLEMENTARY INFORMATION:

Background

The Entity List (Supplement No. 4 to Part 744) provides notice to the public that certain exports, reexports, and transfers (in-country) to entities identified on the Entity List require a license from BIS and that the availability of license exceptions in such transactions is limited. Entities are placed on the Entity List on the basis of certain sections of part 744 (Control Policy: End-User and End-Use Based) of the EAR.

The ERC, composed of representatives of the Departments of Commerce (Chair), State, Defense, Energy and, when appropriate, the Treasury, makes all decisions regarding additions to, removals from, or other modifications to the Entity List. The ERC makes all decisions to add an entry to the Entity List by majority vote and all decisions to remove or modify an entry by unanimous vote.

ERC Entity List decisions

Additions to the Entity List

This rule implements the decision of the ERC to add six persons under eight entries to the Entity List on the basis of Section 744.11 (license requirements that apply to entities acting contrary to the national security or foreign policy interests of the United States) of the EAR. The eight entries, two of which are alternate addresses of two of the persons being added to the Entity List, consist of two entries in Iran and six entries in the U.A.E.

The ERC reviewed Section 744.11(b) (Criteria for revising the Entity List) in making the determination to add these persons to the Entity List. Under that paragraph, persons for which there is reasonable cause to believe, based on specific and articulable facts, that the persons have been involved, are involved, or pose a significant risk of being or becoming involved in activities that are contrary to the national security or foreign policy interests of the United States and those acting on behalf of such persons may be added to the Entity List pursuant to Section 744.11. Paragraphs (b)(1)-(b)(5) of Section 744.11 include an illustrative list of activities that could be contrary to the national security or foreign policy interests of the United States.

The six persons being added to the Entity List under this rule have been determined by the ERC to be involved in activities that are contrary to the national security or foreign policy interests of the United States. Two of the persons being added to the Entity List under this rule, Seyed Mahdi Mousavi (“Mousavi”) and his company, Seyed Mousavi Trading, are located in the U.A.E. and in Iran. BIS's investigation of Mousavi and his company, Seyed Mousavi Trading, indicates that he, individually, and by and through his company, knowingly acquired U.S.-origin items for transshipment to Iran through the U.A.E. and Hong Kong. Further, the investigation indicates that the shipments to Iran included shipments to a person on the Denied Persons List (see section 764.3(a)(2) of the EAR). Therefore, pursuant to Section 744.11(b)(5) of the EAR, the ERC determined that Mousavi and Seyed Mousavi Trading are knowingly and willfully engaging in the transshipment of U.S.-origin equipment subject to the EAR, without the required Department of Commerce or Department of the Treasury, Office of Foreign Assets Control (OFAC) export licenses, for use in Iran in violation of the embargo against Iran as specified in the Iranian Transactions Regulations (31 CFR Part 560). Iran has been designated by the Secretary of State as a country that has repeatedly provided support for acts of international terrorism. In addition, pursuant to paragraph (b) of Supplement No. 1 to Part 764 of the EAR, no person may, directly or indirectly, export or reexport any item subject to the EAR to or on behalf of a denied person.

The other four persons being added to the Entity List under this rule, Fajr Almadeena Electronics (FAE) and its owners, Alex Nouri Zadeh, Mohammad Nayeb, and Jamal Hasan are all located in the U.A.E. BIS's investigation indicates that FAE was listed as a recipient of hundreds of U.S.-origin items. Although FAE claims that the items it receives remain in the U.A.E. and that it is the end-user of record, FAE principals have not been able to provide information on the items' current location or end-use. Moreover, BIS's investigation indicates that FAE's office space is inappropriate for end-use in situ of the items shipped. Therefore, pursuant to Section 744.11(b)(4) and (b)(5) of the EAR, the ERC determined that FAE, Alex Nouri Zadeh, Mohammad Nayeb, and Jamal Hasan are unreliable recipients of U.S.-origin items and may be diverting such items through the U.A.E. to Iran, without the required Department of Commerce or OFAC export licenses, for use in Iran in violation of the embargo against Iran as specified in the Iranian Transactions Regulations (31 CFR Part 560). As noted above, Iran has been designated by the Secretary of State as a country that has repeatedly provided support for acts of international terrorism.

For all eight entries for the six persons being added to the Entity List, the ERC specified a license requirement for all items subject to the EAR and established a license application review policy of a presumption of denial. The license requirement applies to any transaction in which items are to be exported, reexported, or transferred (in-country) to such persons or in which such persons act as purchaser, intermediate consignee, ultimate consignee, or end-user. In addition, no license exceptions are available for exports, reexports, or transfers (in-country) to those persons being added to the Entity List.

This final rule adds the following six persons under eight entries to the Entity List:

Iran

(1) Seyed Mahdi Mousavi, BLK 6, No. 12 Beside Gilan Street, Rodstar Street, Under Hafez Bridge, Tehran, Iran; and No. 10-6th Floor Iranian Trade Center, Valiasr Square, Tehran, Iran (See alternate addresses under U.A.E.); and

(2) Seyed Mousavi Trading, a.k.a., the following two aliases:

—Hitech Computer Peripherals; and

—Hitech Corporation.

BLK 6, No. 12 Beside Gilan Street, Rodstar Street, Under Hafez Bridge, Tehran, Iran; and No. 10-6th Floor Iranian Trade Center, Valiasr Square, Tehran, Iran (See alternate addresses under U.A.E.).

United Arab Emirates

(1) Alex Nouri Zadeh, a.k.a. the following three aliases:

—Alex Banai;

—Alex Norry; and

—Nouri Zadeh,

No. 102 and 106, 1st Floor, K5 Entrance, Alshami Rest. Bldg., Al Muraqqabat Rd., Deira, Dubai, 184609 U.A.E.; and P.O. Box 184607, Dubai, U.A.E.;

(2) Fajr Almadeena Electronics, No. 102 and 106, 1st Floor, K5 Entrance, Alshami Rest. Bldg., Al Muraqqabat Rd., Deira, Dubai, 184609 U.A.E.; and P.O. Box 184607, Dubai, U.A.E.

(3) Jamal Hasan, a.k.a. the following alias:

—Jamal Haji,

No. 102 and 106, 1st Floor, K5 Entrance, Alshami Rest. Bldg., Al Muraqqabat Rd., Deira, Dubai, 184609 U.A.E.; and P.O. Box 184607, Dubai, U.A.E.

(4) Mohammad Nayeb, No. 102 and 106, 1st Floor, K5 Entrance, Alshami Rest. Bldg., Al Muraqqabat Rd., Deira, Dubai, 184609 U.A.E.; and P.O. Box 184607, Dubai, U.A.E.

(5) Seyed Mahdi Mousavi, P.O. Box 49465, Dubai, U.A.E.; and, P.O. Box 7941, Dubai, U.A.E. (See alternate addresses under Iran); and

(6) Seyed Mousavi Trading, a.k.a., the following two aliases:

—Hitech Computer Peripherals; and

—Hitech Corporation.

P.O. Box 49465, Dubai, U.A.E.; and P.O. Box 7941, Dubai, U.A.E (See alternate addresses under Iran).

Removal From the Entity List

This rule implements a decision of the ERC to remove one person, Raaziq International (Pvt.) Ltd., located in Pakistan, from the Entity List as a result of the person's request for removal from the Entity List. Based upon the review of the information provided in the removal request in accordance with section 744.16 (Procedure for requesting removal or modification of an Entity List entity), and after review by the ERC's member agencies, the ERC determined that this person should be removed from the Entity List.

The ERC decision to remove this person took into account this person's cooperation with the U.S. Government, as well as this person's assurances of future compliance with the EAR. In accordance with section 744.16(c), the Deputy Assistant Secretary for Export Administration has sent written notification to this person, informing this entity of the ERC's decision to remove it from the Entity List. This final rule implements the decision to remove the following person located in Pakistan from the Entity List:

Pakistan

(1) Raaziq International (Pvt.) Ltd., House Number 32, F-2, Khusal Khan Khattak Road, University Town, Peshawar, Pakistan.

Annual Review of the Entity List

This rule also amends the Entity List on the basis of the annual review of the Entity List conducted by the ERC, in accordance with the procedures outlined in Supplement No. 5 to part 744 (Procedures for End-User Review Committee Entity List Decisions). The changes from the annual review of the Entity List that are approved by the ERC are implemented in stages as the ERC completes its review of entities listed under different destinations on the Entity List. This rule implements the results of the annual review for entities located in Belarus, China, Egypt, Hong Kong, Kuwait, Malaysia, Pakistan, Singapore and South Africa. The entities located in Canada, Germany, Ireland, Israel, Lebanon, Taiwan, and the United Kingdom were also reviewed by the ERC, but no additional changes are being made to those entries as a result of the annual review of the Entity List.

1. Removals From the Entity List on the Basis of Annual Reviews

This rule removes fourteen entries from the Entity List on the basis of the annual review of the Entity List. The persons removed were determined to no longer meet the criteria for inclusion on the Entity List. Specifically, this rule implements the decision of the ERC to remove one person located in China, three persons located in Egypt, eight persons located in Hong Kong, and two persons located in Kuwait, as follows:

China

(1) Tracy Little, Room 1104, North Tower Yueziu City Plaza, No. 445 Dong Feng Zhong Rd., Guangzhou, China.

Egypt

(1) H Logic, Behind 14 Mahmoud Sedky St., El Ekbal, Alexandria, Egypt; and 11 Abd El-Hamid Shoman St., Nasser City, Cairo;

(2) Hesham Yehia, Behind 14 Mahmoud Sedky St., El Ekbal, Alexandria, Egypt; and

(3) Najeeb Al Awadhi, 14 Mahmoud Sedky St., El Ekbal, Alexandria, Egypt.

Hong Kong

(1) Amy So, Room 1701, New Commerce Centre, 19 On Sum St., Siu Lek Yuen, Shatin, N.T., Hong Kong;

(2) Frank Lam, 1206-7, 12/F New Victory House, Hong Kong;

(3) Gary Chan, 4/F, Chinabest International Centre, 8 Kwai On Rd., Kwai Chung, N.T., Hong Kong;

(4) Green Channel Electronics Company, Unit 902, Ricky Center, 36 Chong Yip St., Kwun Tong, Kowloon, Hong Kong;

(5) Techlink Electronics, Unit 5, 18/F, Laurels Industrial Centre, 32 Tai Yau St., San Po Kong, Kowloon, Hong Kong;

(6) TLG Electronics, Room 1701, New Commerce Centre, 19 On Sum St., Siu Lek Yuen, Shatin, N.T., Hong Kong;

(7) Unite Chance Technology Company, Workshop A14, 5/F, Block A Sheung Shui Plaza, 3 Ka Fu Close Sheung Shui, N.T., Hong Kong; and

(8) Wing Shing Computer Components Company (H.K.) Ltd., Unit E, 9/F, Lladro Centre, 72 Hoi Yuen Rd., Kwon Tong, Kin, Hong Kong.

Kuwait

(1) Advanced Technology General Trading Company, Hawalli, Bin Khaldoun St., Fadhalah Complex, Mizzanin, Office #4, P.O. Box 22682, Safat, 13087, Kuwait. (See alternate address under U.A.E.); and

(2) Abubakr Abuelazm, Hawalli, Bin Khaldoun St., Fadhalah Complex, Mizzanin, Office #4, P.O. Box 22682, Safat, 13087, Kuwait (See alternate address under U.A.E.).

The two entities removed from Kuwait are also listed in the U.A.E.; BIS is not removing the two U.A.E. listings from the Entity List at this time. The ERC will evaluate those entries as part of the annual review of the entities located in the U.A.E. The removal of the above-referenced fourteen entities on the basis of annual review of the Entity List, and the removal of the one entity referenced above on the basis of a Section 744.16 removal request that was approved by the ERC, eliminates the existing license requirements in Supplement No. 4 to part 744 for exports, reexports and transfers (in-country) to these fifteen entities. However, the removal of these fifteen entities from the Entity List does not relieve persons of other obligations under part 744 of the EAR or under other parts of the EAR. Neither the removal of an entity from the Entity List nor the removal of Entity List-based license requirements relieves persons of their obligations under General Prohibition 5 in section 736.2(b)(5) of the EAR which provides that, “you may not, without a license, knowingly export or reexport any item subject to the EAR to an end-user or end-use that is prohibited by part 744 of the EAR.” Additionally these removals do not relieve persons of their obligation to apply for export, reexport or in-country transfer licenses required by other provisions of the EAR. BIS strongly urges the use of Supplement No. 3 to part 732 of the EAR, “BIS's `Know Your Customer' Guidance and Red Flags,” when persons are involved in transactions that are subject to the EAR.

2. Modifications to the Entity List on the Basis of the Annual Review

On the basis of decisions made by the ERC during the annual review, in addition to the removals described above, this rule amends thirty-six entries currently on the Entity List. The amended entries consist of three entries under Belarus, twelve entries under China, three entries under Malaysia, twelve entries under Pakistan, one entry under Singapore, and five entries under South Africa. The amendments clarify the relationship between listed persons and/or provide alternate addresses, alternate spellings and acronyms and/or aliases for the names of the listed persons, as follows:

Belarus

(1) Belmicrosystems Research and Design Center, Office 313, 12 Korzhenevsky Street, 20108 Minsk, Republic of Belarus; and Korjenevsky Str., 12, Minsk, 220108, Republic of Belarus; and 12, Korzhenevskogo Str., Minsk, 220108, Republic of Belarus;

(2) SOE Semiconductor Devices Factory, Office 313, 12 Korzhenevsky Street, 20108 Minsk, Republic of Belarus; and Korjenevsky Str., 12, Minsk, 220108, Republic of Belarus; and 12, Korzhenevskogo Str., Minsk, 220108, Republic of Belarus; and

(3) Vasili Kuntsevich, Office 313, 12 Korzhenevsky Street, 20108 Minsk, Republic of Belarus; and Korjenevsky Str., 12, Minsk, 220108, Republic of Belarus; and 12, Korzhenevskogo Str., Minsk, 220108, Republic of Belarus.

China

(1) 33 Institute, a.k.a., the following three aliases:

—Beijing Automation Control Equipment Institute (BACEI);

—Beijing Institute of Automatic Control Equipment, China Haiying Electromechanical Technology Academy; and

—No. 33 Research Institute of the Third Academy of China Aerospace Science and Industry Corp (CASIC).

Yungang, Fengtai District, Beijing;

(2) 35 Institute, a.k.a., the following four aliases:

—Beijing Hangxing Machine Building Corporation;

—Beijing Huahang Radio Measurements Research Institute, China Haiying Electronic Mechanical Technical Research Academy;

—Huahang Institute of Radio Measurement; and

—No. 35 Research Institute of the Third Academy of China Aerospace Science and Industry Corp (CASIC);

(3) 54th Research Institute of China, a.k.a., the following three aliases:

—China Electronics Technology Group Corp. (CETC) 54th Research Institute;

—Communication, Telemetry and Telecontrol Research Institute (CTI); and

—Shijiazhuang Communication Observation and Control Technology Institute;

(4) Beijing Aerospace Automatic Control Institute (BICD), a.k.a., the following four aliases:

—12th Research Institute China Academy of Launch Vehicle Technology (CALT);

—Beijing Institute of Space Automatic Control;

—Beijing Spaceflight Autocontrol Research Institute; and

—China Aerospace Science and Technology Corp First Academy 12th Research Institute.

51 Yong Ding Road, Beijing; and No. 50 Yongding Road, Haidian District, Beijing, China, 100854;

(5) Chinese Academy of Engineering Physics, a.k.a., the following seventeen aliases:

—Ninth Academy;

—Southwest Computing Center;

—Southwest Institute of Applied Electronics;

—Southwest Institute of Chemical Materials;

—Southwest Institute of Electronic Engineering;

—Southwest Institute of Environmental Testing;

—Southwest Institute of Explosives and Chemical Engineering;

—Southwest Institute of Fluid Physics;

—Southwest Institute of General Designing and Assembly;

—Southwest Institute of Machining Technology;

—Southwest Institute of Materials;

—Southwest Institute of Nuclear Physics and Chemistry (a.k.a., China Academy of Engineering Physics (CAEP)'s 902 Institute);

—Southwest Institute of Research and Applications of Special Materials Factory;

—Southwest Institute of Structural Mechanics;

(all of preceding located in or near Mianyang, Sichuan Province)

—The High Power Laser Laboratory, Shanghai;

—The Institute of Applied Physics and Computational Mathematics, Beijing; and

—901 Institute (P.O. Box 523 Chengdu, 6100003);

(6) First Department, Chinese Academy of Launch Vehicle Technology (CALT), a.k.a., the following three aliases:

—1st General Design Department (a.k.a., Planning Department No 1) of the China Aerospace Science & Technology Corporation's First Academy (CALT);

—Beijing Institute of Astronautic Systems Engineering; and

—Beijing Institute of Space System Engineering.

1 South Dahongmen Road, Fengtai District, Beijing 100076;

(7) Northwest Institute of Nuclear Technology in the Science Research (NINTF), Xi'an, Shanxi; and P.O. Box 69-12, Xi'an, Shaanxi Province 710024;

(8) Northwestern Polytechnical University, a.k.a., the following three aliases:

—Northwestern Polytechnic University;

—Northwest Polytechnic University; and

—Northwest Polytechnical University.

127 Yonyi Xilu, Xi'an 71002 Shaanxi, China; and Youyi Xi Lu, Xi'an, Shaanxi, China; and No. 1 Bianjia Cun, Xi'an; and West Friendship Rd. 59, Xi'an; and 3 10 W Apt 3, Xi'an;

(9) Shanghai Institute of Space Power Sources, a.k.a., the following three aliases:

—811th Research Institute, 8th Academy, China Aerospace Science and Technology Corp. (CASC);

—Shanghai Space Energy Research Institute; and

—Shanghai Space Power Supply Research Institute.

388 Cang Wu Road, Shanghai; and Dongchuan Rd., 2965 Shanghai;

(10) Southwest Research Institute of Electronics Technology, a.k.a., the following three aliases:

—10th Research Institute of China Electronic Technology Group Corp (CETC);

—CETC 10th Research Institute; and

—Southwest Institute of Electronic Technology (SWIET).

No. 6 Yong Xin Street, Chengdu; and No. 90 Babao Street, Chengdu; and 48 Chadianzi Street East, Jinniu District, Chengdu, 610036;

(11) Xi'an Research Institute of Navigation Technology, a.k.a., the following two aliases:

—20th Research Institute of China Electronic Technology Group Corp (CETC); and

—CETC 20th Research Institute.

1 Baisha Rd., Xi'an, Shaanxi; and

(12) Xiangdong Machinery Factory, within the China Aerospace Science and Industry Corp's (CASIC) Third Academy, a.k.a., the following two aliases:

—China Haiying Electromechanical Technology Academy; and

—China Haiying Science & Technology Corporation (a.k.a., the following four aliases: 239 Factory; Beijing Xinghang Electromechanical Equipment Factory; Beijing Hangxing Machinery Manufacturing Corporation; and Hangxing Machine Building Company).

Malaysia

(1) Eco Biochem Sdn Bhd, No. 15, Jalan PJS 11/16, Taman Bandar Sunway, 46150 Petaling Jaya, Selangor D.E., Malaysia;

(2) Festsco Marketing Sdn Bhd, 97C, Jalan Kenari 23, Puchong Jaya, Puchong, Selangor, Malaysia; and Suite D23, Tkt. 2, Plaza Pekeliling, Jalan Tun Razak, Kuala Lumpur, Wilayah Persekkutuan, Malaysia; and

(3) VTE Industrial Automation Sdn Bhd, 97C, Jalan Kenari 23, Puchong Jaya, Puchong, Selangor, Malaysia; and 45-02, Jalan Kenari 19A, Puchong Jaya, Puchong, Selangor 47100 Malaysia.

Pakistan

(1) Abdul Qader Khan Research Laboratories (AQKRL), a.k.a., the following seven aliases:

—Abdul Qadeer Khan Research Laboratories;

—Dr. A.Q. Khan Research Laboratories;

—Engineering Research Laboratories (ERL);

—Institute of Industrial Control Systems (IICS);

—Kahuta Nuclear Facility;

—Kahuta Research Facility; and

—Khan Research Laboratories (KRL).

Dhoke Nusah, Dakhli Gangal, Near Chatri Chowk, P.O. Box 1398, Rawalpindi 46000, Pakistan; and P.O. Box 852, Rawalpindi, Pakistan; and P.O. Box 502, Kahuta, Pakistan; and 24 Mauve Area G 9/1, GPO Box 2891, Islamabad;

(2) Al Technique Corporation of Pakistan, Ltd. (ATCOP), 4th Floor, Dodhy Plaza, 52 Jinnah Avenue, P.O. Box 1878, Islamabad, Pakistan;

(3) Allied Trading Co., a.k.a., the following alias:

—UCB Arcade.

2, Wazir Mansion, main Aiwan-e-tijarat Road, Boulton Market, Karachi—74000, Karachi, Pakistan (See alternate address under UCB Arcade in Uganda);

(4) Defense Science and Technology Organization (DESTO), a.k.a., the following two aliases:

—Defense Science and Technology Center; and

—Chaklala Defense Science and Technology Organization.

182 Sir Syed Road, Chaklala Cantt, Rawalpindi 46200, Pakistan; and Headquarters, Chakklala Cantt, Rawalpindi, 46200, Pakistan;

(5) High Technologies, Ltd. (HTL), a.k.a., the following alias:

—High Technology, Ltd.,

Islamabad;

(6) Machinery Master Enterprises Ltd. (MME), Islamabad;

(7) Maple Engineering Pvt. Ltd. Consultants, Importers and Exporters, Islamabad;

(8) Pakistan Atomic Energy Commission (PAEC), a.k.a., the following alias:

—Power Plant Workshops,

P.O. Box 1114, Islamabad; and the following three subordinate entities:

—National Development Complex (NDC), a.k.a., the following two aliases:

—National Development Centre; and

—National Defense Complex, Fateh Jang, Punjab, Rawalpindi, Pakistan; and P.O. Box 2216, Islamabad, Pakistan;

—Pakistan Institute for Nuclear Science and Technology (PINSTECH), Nilore, Islamabad;

—Nuclear reactors (including power plants), fuel reprocessing and enrichment facilities, all uranium processing, conversion and enrichment facilities, heavy water production facilities and any collocated ammonia plants.

(9) People's Steel Mills, Javedan Nagar, Manghopir Road, Karachi 75890, Pakistan;

(10) Space and Upper Atmosphere Research Commission (SUPARCO), a.k.a., the following alias:

—Space and Upper Atmospheric Research Commission.

Sector 28, Gulzar-e-Hijiri, Off University Road, P.O. Box 8402, Karachi 75270;

(11) Wah Chemical Product Plant, a.k.a., the following alias:

—Wah Nobel Chemicals Limited,

Wah Cantonment, Rawalpindi, Pakistan; and

(12) Wah Munitions Plant, Wah Cantonment, Rawalpindi, Pakistan.

Singapore

(1) Cyberinn PTE LTD, a.k.a., the following alias:

—Index Consultancy & Services PTE LTD.

1 Rochor Canal Road, #06-07 Sim Lim Square, 188504, Singapore.

South Africa

(1) Gunther Migeotte, 1 River Street, Rosebank, Cape Town, 7700, South Africa; and P.O. Box 36623, Menlo Park, 0102, South Africa; and 16 Manu Rua, 262 Sprite Avenue, Faerie Glen, 0081, South Africa; and Suite 17-106, The Waverley Business Park, Wyecroft Rd., Mowbray, Cape Town, 7925, South Africa (See alternate address under Norway);

(2) Icarus Marine (Pty) Ltd., 1 River Street, Rosebank, Cape Town, South Africa; and Suite 17-106, The Waverley Business Park, Wyecroft Rd., Mowbray, Cape Town, 7925, South Africa;

(3) Ralph Brucher, P.O. Box 9523, Centurion 0046, South Africa; and Unit 4, Techni Park East, Alwyn Street, Meyerspark Silverton, Pretoria, Gauteng, South Africa; and Batter St, Techniec Park East, Silverton, Pretoria, 0184, South Africa; and 26 Jakaranda St, Centurion, Gauteng 0157, South Africa; and Jacaranda St, Hennopspark Ext 7, Centurion, South Africa;

(4) Scavenger Manufacturing (Pty) Ltd., P.O. Box 288, Silverton, Pretoria 0127, South Africa; and Unit 4, Techni Park East, Alwyn Street, Meyerspark Silverton, Pretoria, Gauteng, South Africa; and Batter St, Techniec Park East, Silverton, Pretoria, 0184, South Africa; and 26 Jakaranda St, Centurion, Gauteng 0157, South Africa; and Jacaranda St, Hennopspark Ext 7, Centurion, South Africa; and P.O. Box 9523, Centurion 0046, South Africa; and

(5) Shawn Hugo De Villiers, 1 River Street, Rosebank, Cape Town 7700, South Africa; and Myburgii Street, Somerset West, Cape Town, South Africa; and Suite 17-106, The Waverley Business Park, Wyecroft Rd., Mowbray, Cape Town, 7925, South Africa.

3. Additions to the Entity List

On the basis of decisions made by the ERC during the annual review of the Entity List, in addition to the removals and modifications described above, this rule adds two separate entries under China for two entities formerly listed on the Entity List under China as aliases of the Chinese Academy of Engineering Physics: Sichuan University and University of Electronic Science and Technology of China. Also on the basis of decisions made by the ERC during the annual review of the Entity List, this rule adds one entry under Uganda, UCB Arcade, as an alternate address for Allied Trading Co., an entity listed on the Entity List under Pakistan, therefore creating a new country listing on the Entity List. The ERC determined that the licensing requirements and licensing review policies for all three of these entries should mirror those in entries in which they were previously located. Therefore, for the entries for Sichuan University and University of Electronic Science and Technology of China, the specified license requirement is all items subject to the EAR and the established license review policy is case-by-case basis. For UCB Arcade, the specified license requirement is all items subject to the EAR and the established license review policy is presumption of denial. The three additions to the Entity List as a result of the annual review are as follows:

China

(1) Sichuan University, No. 24 South Section 1, Yihuan Road, Chengdu, China, 610065; and No. 29 Jiuyanqiao Wangjiang Road, Chengdu, China, 610064; and People's South Road, Chengdu, China, 610041; and Shuangliu County, Chuanda Road, Chengdu, China, 610207; and

(2) University of Electronic Science and Technology of China, No. 4, 2nd Section, North Jianshe Road, Chengdu, 610054.

Uganda

(1) UCB Arcade, a.k.a., the following alias:

—Allied Trading Co., P.O. Box 5999, Kampala, Uganda (See alternate address under Allied Trading Co. in Pakistan).

Savings Clause

Shipments of items removed from eligibility for a License Exception or export or reexport without a license (NLR) as a result of this regulatory action that were en route aboard a carrier to a port of export or reexport, on [INSERT DATE OF PUBLICATION], pursuant to actual orders for export or reexport to a foreign destination, may proceed to that destination under the previous eligibility for a License Exception or export or reexport without a license (NLR).

Although the Export Administration Act expired on August 20, 2001, the President, through Executive Order 13222 of August 17, 2001, 3 CFR, 2001 Comp., p. 783 (2002), as extended by the Notice of August 15, 2012, 77 FR 49699 (August 16, 2012), has continued the Export Administration Regulations in effect under the International Emergency Economic Powers Act. BIS continues to carry out the provisions of the Export Administration Act, as appropriate and to the extent permitted by law, pursuant to Executive Order 13222.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by the OMB under control numbers 0694-0088, “Multi-Purpose Application,” which carries a burden hour estimate of 43.8 minutes for a manual or electronic submission. Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. The provisions of the Administrative Procedure Act (5 U.S.C. 553) requiring notice of proposed rulemaking, the opportunity for public comment and a delay in effective date are inapplicable because this regulation involves a military or foreign affairs function of the United States. (See 5 U.S.C. § 553(a)(1)). BIS implements this rule to protect U.S. national security or foreign policy interests by preventing items from being exported, reexported, or transferred (in country) to the persons being added to the Entity List. If this rule were delayed to allow for notice and comment and a delay in effective date, then entities being added to the Entity List by this action would continue to be able to receive items without a license and to conduct activities contrary to the national security or foreign policy interests of the United States. In addition, because these parties may receive notice of the U.S. Government's intention to place these entities on the Entity List once a final rule was published it would create an incentive for these persons to either accelerate receiving items subject to the EAR to conduct activities that are contrary to the national security or foreign policy interests of the United States and/or to take steps to set up additional aliases, change addresses, and take other steps to try to limit the impact of the listing on the Entity List once a final rule was published. Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et seq., are not applicable.

List of Subjects in 15 CFR Part 744

Exports, Reporting and recordkeeping requirements, Terrorism.

Accordingly, part 744 of the Export Administration Regulations (15 CFR parts 730-774) is amended as follows:

PART 744—[AMENDED]

1. The authority citation for 15 CFR part 744 is amended to read as follows:

Authority: 50 U.S.C. app. 2401 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 21, 2011, 76 FR 59001 (September, 22, 2011); Notice of November 9, 2011, 76 FR 70319 (November 10, 2011); Notice of January 19, 2012, 77 FR 3067 (January 20, 2012); Notice of August 15, 2012, 77 FR 49699 (August 16, 2012).

2. Supplement No. 4 to part 744 is amended:

(a) By revising under Belarus, three Belarusian entities;

(b) By removing under China, the Chinese entity: “Tracy Little, Room 1104, North Tower Yueziu City Plaza, No. 445 Dong Feng Zhong Rd., Guangzhou, China.”;

(c) By revising under China, twelve Chinese entities;

(d) By adding under China, in alphabetical order, two Chinese entities for “Sichuan University” and “University of Electronic Science and Technology of China”;

(e) By removing under Egypt, three Egyptian entities: “H Logic, Behind 14 Mahmoud Sedky St., El Ekbal, Alexandria, Egypt; and 11 Abd El-Hamid Shoman St., Nasser City, Cairo.”; “Hesham Yehia, Behind 14 Mahmoud Sedky St., El Ekbal, Alexandria, Egypt.”; and “Najeeb Al Awadhi, 14 Mahmoud Sedky St., El Ekbal, Alexandria, Egypt.”;

(f) By removing under Hong Kong, eight Hong Kong entities: “Amy So, Room 1701, New Commerce Centre, 19 On Sum St., Siu Lek Yuen, Shatin, N.T., Hong Kong.”; “Frank Lam, 1206-7, 12/F New Victory House, Hong Kong.”; “Gary Chan, 4/F, Chinabest International Centre, 8 Kwai On Rd., Kwai Chung, N.T., Hong Kong.”; “Green Channel Electronics Company, Unit 902, Ricky Center, 36 Chong Yip St., Kwun Tong, Kowloon, Hong Kong.”; “Techlink Electronics, Unit 5, 18/F, Laurels Industrial Centre, 32 Tai Yau St., San Po Kong, Kowloon, Hong Kong.”; “TLG Electronics, Room 1701, New Commerce Centre, 19 On Sum St., Siu Lek Yuen, Shatin, N.T., Hong Kong.”; “Unite Chance Technology Company, Workshop A14, 5/F, Block A Sheung Shui Plaza, 3 Ka Fu Close Sheung Shui, N.T., Hong Kong”; and “Wing Shing Computer Components Company (H.K.) Ltd., Unit E, 9/F, Lladro Centre, 72 Hoi Yuen Rd., Kwon Tong, Kin, Hong Kong.”;

(g) By adding under Iran, in alphabetical order, two Iranian entities;

(h) By removing the destination of Kuwait under the Country column and the two Kuwaiti entities: “Advanced Technology General Trading Company, Hawalli, Bin Khaldoun St., Fadhalah Complex, Mizzanin, Office #4, P.O. Box 22682, Safat, 13087, Kuwait.”; and “Abubakr Abuelazm, Hawalli, Bin Khaldoun St., Fadhalah Complex, Mizzanin, Office #4, P.O. Box 22682, Safat, 13087, Kuwait.”;

(i) By revising, under Malaysia, three Malaysian entities;

(j) By removing under Pakistan, the Pakistani entity: “Raaziq International (Pvt.) Ltd., House Number 32, F-2, Khusal Khan Khattak Road, University Town, Peshawar, Pakistan.”;

(k) By revising under Pakistan, twelve Pakistani entities;

(l) By revising under Singapore, one Singaporean entity;

(m) By revising under South Africa, five South African entities;

(n) By adding, in alphabetical order, the destination of Uganda under the Country column and one Ugandan entity;

(o) By removing, under United Arab Emirates, the parenthetical phrase “(See alternate address under Kuwait)” from two entities, Abubakr Abuelazm and Advanced Technology General Trading Company; and

(p) By adding under United Arab Emirates, in alphabetical order, six Emirati entities.

The additions and revisions read as follows:

Supplement No. 4 to Part 744—Entity List
Country | Entity | License requirement | License review policy | Federal Register citation
| * * * * * * *
Belarus | Belmicrosystems Research and Design Center, Office 313, 12 Korzhenevsky Street, 20108 Minsk, Republic of Belarus; and Korjenevsky Str., 12, Minsk, 220108, Republic of Belarus; and 12, Korzhenevskogo Str., Minsk, 220108, Republic of Belarus. | For all items subject to the EAR. (See § 744.11 of the EAR). | Presumption of denial | 75 FR 36516, 6/28/10. 77 FR 58006, 9/19/12.
| SOE Semiconductor Devices Factory, Office 313, 12 Korzhenevsky Street, 20108 Minsk, Republic of Belarus; and Korjenevsky Str., 12, Minsk, 220108, Republic of Belarus; and 12, Korzhenevskogo Str., Minsk, 220108, Republic of Belarus. | For all items subject to the EAR. (See § 744.11 of the EAR). | Presumption of denial | 75 FR 36516, 6/28/10. 77 FR 58006, 9/19/12.
| Vasili Kuntsevich, Office 313, 12 Korzhenevsky Street, 20108 Minsk, Republic of Belarus; and Korjenevsky Str., 12, Minsk, 220108, Republic of Belarus; and 12, Korzhenevskogo Str., Minsk, 220108, Republic of Belarus. | For all items subject to the EAR. (See § 744.11 of the EAR). | Presumption of denial | 75 FR 36516, 6/28/10. 77 FR 58006, 9/19/12.
| * * * * * * *
China, People's Republic of
| * * * * * * *
| 33 Institute, a.k.a., the following three aliases: —Beijing Automation Control Equipment Institute (BACEI); —Beijing Institute of Automatic Control Equipment, China Haiying Electromechanical Technology Academy; and —No. 33 Research Institute of the Third Academy of China Aerospace Science and Industry Corp (CASIC). | For all items subject to the EAR having a classification other than EAR99 or a classification where the third through fifth digits of the ECCN are “999”, e.g., XX999. | See § 744.3(d) of this part | 66 FR 24266, 5/14/01. 75 FR 78883, 12/17/10. 77 FR 58006, 9/19/12.
| Yungang, Fengtai District, Beijing.
| 35 Institute, a.k.a., the following four aliases: —Beijing Hangxing Machine Building Corporation; —Beijing Huahang Radio Measurements Research Institute, China Haiying Electronic Mechanical Technical Research Academy; —Huahang Institute of Radio Measurement; and | For all items subject to the EAR having a classification other than EAR99 or a classification where the third through fifth digits of the ECCN are “999”, e.g., XX999. | See § 744.3(d) of this part | 66 FR 24266, 5/14/01. 75 FR 78883, 12/17/10. 77 FR 58006, 9/19/12.
| —No. 35 Research Institute of the Third Academy of China Aerospace Science and Industry Corp (CASIC).
| 54th Research Institute of China, a.k.a., the following three aliases: —China Electronics Technology Group Corp. (CETC) 54th Research Institute; —Communication, Telemetry and Telecontrol Research Institute (CTI); and —Shijiazhuang Communication Observation and Control Technology Institute. | For all items subject to the EAR having a classification other than EAR99 or a classification where the third through fifth digits of the ECCN are “999”, e.g., XX999. | See § 744.3(d) of this part | 66 FR 24266, 5/14/01. 75 FR 78883, 12/17/10. 77 FR 58006, 9/19/12.
| * * * * * * *
| Beijing Aerospace Automatic Control Institute (BICD), a.k.a., the following four aliases: —12th Research Institute China Academy of Launch Vehicle Technology (CALT); —Beijing Institute of Space Automatic Control; —Beijing Spaceflight Autocontrol Research Institute; and —China Aerospace Science and Technology Corp First Academy 12th Research Institute. | For all items subject to the EAR having a classification other than EAR99. | See § 744.3 of this part | 64 FR 28909, 5/28/99. 75 FR 78883, 12/17/10. 77 FR 58006, 9/19/12.
| 51 Yong Ding Road, Beijing; and No. 50 Yongding Road, Haidian District, Beijing, China, 100854
| * * * * * * *
| Chinese Academy of Engineering Physics, a.k.a., the following seventeen aliases: —Ninth Academy; —Southwest Computing Center; —Southwest Institute of Applied Electronics; —Southwest Institute of Chemical Materials; —Southwest Institute of Electronic Engineering; —Southwest Institute of Environmental Testing; —Southwest Institute of Explosives and Chemical Engineering; —Southwest Institute of Fluid Physics; —Southwest Institute of General Designing and Assembly; —Southwest Institute of Machining Technology; —Southwest Institute of Materials; —Southwest Institute of Nuclear Physics and Chemistry (a.k.a., China Academy of Engineering Physics (CAEP)'s 902 Institute); —Southwest Institute of Research and Applications of Special Materials Factory; —Southwest Institute of Structural Mechanics; (all of preceding located in or near Mianyang, Sichuan Province) —The High Power Laser Laboratory, Shanghai; —The Institute of Applied Physics and Computational Mathematics, Beijing; and —901 Institute (P.O. Box 523 Chengdu, 6100003). | For all items subject to the EAR. | Case-by-case basis | 62 FR 35334, 6/30/97. 66 FR 24266, 5/14/01. 75 FR 78883, 12/17/10. 76 FR 21628, 4/18/11. 76 FR 50407, 8/15/11. 77 FR 58006, 9/19/12.
| * * * * * * *
| First Department, Chinese Academy of Launch Vehicle Technology (CALT), a.k.a., the following three aliases: —1st General Design Department (a.k.a., Planning Department No 1) of the China Aerospace Science & Technology Corporation's First Academy (CALT); —Beijing Institute of Astronautic Systems Engineering; and —Beijing Institute of Space System Engineering. | For all items subject to the EAR. | See § 744.3(d) of this part | 66 FR 24266, 5/14/01. 75 FR 78883, 12/17/10. 77 FR 58006, 9/19/12.
| 1 South Dahongmen Road, Fengtai District, Beijing 100076.
| * * * * * * *
| Northwest Institute of Nuclear Technology in the Science Research (NINTF), Xi'an, Shanxi; and P.O. Box 69-12, Xi'an, Shaanxi Province 710024. | For all items subject to the EAR. | See § 744.2 of this part | 64 FR 28909, 5/28/99. 75 FR 78883, 12/17/10. 77 FR 58006, 9/19/12.
| Northwestern Polytechnical University, a.k.a., the following three aliases: —Northwestern Polytechnic University; —Northwest Polytechnic University; and —Northwest Polytechnical University. 127 Yonyi Xilu, Xi'an 71002 Shaanxi, China; and Youyi Xi Lu, Xi'an, Shaanxi, China; and No. 1 Bianjia Cun, Xi'an; and West Friendship Rd. 59, Xi'an; and 3 10 W Apt 3, Xi'an. | For all items subject to the EAR having a classification other than EAR99 or a classification where the third through fifth digits of the ECCN are “999”, e.g., XX999. | See § 744.3(d) of this part | 66 FR 24266, 5/14/01. 75 FR 78883, 12/17/10. 77 FR 58006, 9/19/12.
| * * * * * * *
| Shanghai Institute of Space Power Sources, a.k.a., the following three aliases: —811th Research Institute, 8th Academy, China Aerospace Science and Technology Corp. (CASC); —Shanghai Space Energy Research Institute; and —Shanghai Space Power Supply Research Institute. | For all items subject to the EAR having a classification other than EAR99. | See § 744.3 of this part | 64 FR 28909, 5/28/99. 75 FR 78883, 12/17/10. 77 FR 58006, 9/19/12.
| 388 Cang Wu Road, Shanghai; and Dongchuan Rd., 2965 Shanghai.
| Sichuan University, No. 24 South Section 1, Yihuan Road, Chengdu, China, 610065; and No. 29 Jiuyanqiao Wangjiang Road, Chengdu, China, 610064; and People's South Road, Chengdu, China, 610041; and Shuangliu County, Chuanda Road, Chengdu, China, 610207. | For all items subject to the EAR. | Case-by-case basis. | 77 FR 58006, 9/19/12.
| Southwest Research Institute of Electronics Technology, a.k.a., the following three aliases: —10th Research Institute of China Electronic Technology Group Corp (CETC); —CETC 10th Research Institute; and —Southwest Institute of Electronic Technology (SWIET); | For all items subject to the EAR having a classification other than EAR99 or a classification where the third through fifth digits of the ECCN are “999”, e.g., XX999. | See § 744.3(d) of this part | 66 FR 24267, 5/14/01. 75 FR 78883, 12/17/10. 77 FR 58006, 9/19/12.
| No. 6 Yong Xin Street, Chengdu; and No. 90 Babao Street, Chengdu; and 48 Chadianzi Street East, Jinniu District, Chengdu, 610036.
| * * * * * * *
| University of Electronic Science and Technology of China, No. 4, 2nd Section, North Jianshe Road, Chengdu, 610054. | For all items subject to the EAR. | Case-by-case basis. | 77 FR 58006, 9/19/12.
| * * * * * * *
| Xi'an Research Institute of Navigation Technology, a.k.a., the following two aliases: —20th Research Institute of China Electronic Technology Group Corp (CETC); and —CETC 20th Research Institute. Baisha Rd., Xi'an, Shaanxi. | For all items subject to the EAR having a classification other than EAR99. | See § 744.3(d) of this part | 66 FR 24267, 5/14/01. 66 FR 24267, 5/14/01. 75 FR 78883, 12/17/10. 77 FR 58006, 9/19/12.
| * * * * * * *
| Xiangdong Machinery Factory, within the China Aerospace Science and Industry Corp's (CASIC) Third Academy, a.k.a., the following two aliases: —China Haiying Electromechanical Technology Academy; and —China Haiying Science & Technology Corporation (a.k.a., the following four aliases: 239 Factory; Beijing Xinghang Electromechanical Equipment Factory; Beijing Hangxing Machinery Manufacturing Corporation; and Hangxing Machine Building Company). | For all items subject to the EAR. | See § 744.3(d) of this part | 66 FR 24267, 5/14/01. 75 FR 78883, 12/17/10. 77 FR 58006, 9/19/12.
| * * * * * * *
Iran
| * * * * * * *
| Seyed Mahdi Mousavi, BLK 6, No. 12 Beside Gilan Street, Rodstar Street, Under Hafez Bridge, Tehran, Iran; and No. 10-6th Floor Iranian Trade Center, Valiasr Square, Tehran, Iran (See alternate addresses under U.A.E.). | For all items subject to the EAR. (See § 744.11 of the EAR). | Presumption of denial | 77 FR 58006, 9/19/12.
| Seyed Mousavi Trading, a.k.a., the following two aliases: —Hitech Computer Peripherals; and —Hitech Corporation. BLK 6, No. 12 Beside Gilan Street, Rodstar Street, Under Hafez Bridge, Tehran, Iran; and No. 10-6th Floor Iranian Trade Center, Valiasr Square, Tehran, Iran (See alternate addresses under U.A.E.). | For all items subject to the EAR. (See § 744.11 of the EAR). | Presumption of denial | 77 FR 58006, 9/19/12.
| * * * * * * *
Malaysia
| * * * * * * *
| Eco Biochem Sdn Bhd, No. 15, Jalan PJS 11/16, Taman Bandar Sunway, 46150 Petaling Jaya, Selangor D.E., Malaysia. | For all items subject to the EAR. (See § 744.11 of the EAR). | Presumption of denial | 73 FR 54508, 9/22/08. 77 FR 58006, 9/19/12.
| * * * * * * *
| Festsco Marketing Sdn Bhd, 97C, Jalan Kenari 23, Puchong Jaya, Puchong, Selangor, Malaysia; and Suite D23, Tkt. 2, Plaza Pekeliling, Jalan Tun Razak, Kuala Lumpur, Wilayah Persekkutuan, Malaysia. | For all items subject to the EAR. (See § 744.11 of the EAR). | Presumption of denial | 73 FR 54508, 9/22/08. 77 FR 58006, 9/19/12.
| * * * * * * *
| VTE Industrial Automation Sdn Bhd, 97C, Jalan Kenari 23, Puchong Jaya, Puchong, Selangor, Malaysia; and 45-02, Jalan Kenari 19A, Puchong Jaya, Puchong, Selangor, 47100 Malaysia. | For all items subject to the EAR. (See § 744.11 of the EAR). | Presumption of denial | 73 FR 54508, 9/22/08. 76 FR 78146, 12/16/11. 77 FR 58006, 9/19/12.
| * * * * * * *
Pakistan | Abdul Qader Khan Research Laboratories (AQKRL), a.k.a., the following seven aliases: —Abdul Qadeer Khan Research Laboratories; —Dr. A.Q. Khan Research Laboratories; —Engineering Research Laboratories (ERL);—Institute of Industrial Control Systems (IICS); —Kahuta Nuclear Facility; —Kahuta Research Facility; and —Khan Research Laboratories (KRL). | For all items subject to the EAR. | Case-by-case for all items listed on the CCL. Presumption of approval for EAR99 items. | 63 FR 64322, 11/19/98. 65 FR 14444, 03/17/00. 66 FR 50090, 10/01/01. 77 FR 58006, 9/19/12.
| Dhoke Nusah, Dakhli Gangal, Near Chatri Chowk, P.O. Box 1398, Rawalpindi 46000, Pakistan; and P.O. Box 852, Rawalpindi, Pakistan; and P.O. Box 502, Kahuta, Pakistan; and 24 Mauve Area G 9/1, GPO Box 2891, Islamabad.
| * * * * * * *
| Al Technique Corporation of Pakistan, Ltd. (ATCOP), 4th Floor, Dodhy Plaza, 52 Jinnah Avenue, P.O. Box 1878, Islamabad, Pakistan. | For all items subject to the EAR. | Case-by-case for all items listed on the CCL. Presumption of approval for EAR99 items. | 63 FR 64322, 11/19/98. 65 FR 14444, 03/17/00. 66 FR 50090, 10/01/01. 77 FR 58006, 9/19/12.
| Allied Trading Co., a.k.a., the following alias: —UCB Arcade. 2, Wazir Mansion, main Aiwan-e-tijarat Road, Boulton Market, Karachi-74000, Karachi, Pakistan (See alternate address under UCB Arcade in Uganda). | For all items subject to the EAR. | Case-by-case for all items listed on the CCL. Presumption of approval for EAR99 items. | 63 FR 64322, 11/19/98. 65 FR 14444, 03/17/00. 66 FR 50090 10/01/01. 77 FR 58006, 9/19/12.
| * * * * * * *
| Defense Science and Technology Organization (DESTO), a.k.a., the following two aliases: —Defense Science and Technology Center; and —Chaklala Defense Science and Technology Organization. 182 Sir Syed Road, Chaklala Cantt, Rawalpindi 46200, Pakistan; and Headquarters, Chakklala Cantt, Rawalpindi, 46200, Pakistan. | For all items subject to the EAR. | Case-by-case for all items listed on the CCL. Presumption of approval for EAR99 items. | 63 FR 64322, 11/19/98. 65 FR 14444, 03/17/00. 66 FR 50090, 10/01/01. 77 FR 58006, 9/19/12.
| * * * * * * *
| High Technologies, Ltd. (HTL), a.k.a., the following alias: —High Technology, Ltd. Islamabad. | For all items subject to the EAR. | Case-by-case for all items listed on the CCL. Presumption of approval for EAR99 items. | 63 FR 64322, 11/19/98. 65 FR 14444, 03/17/00. 66 FR 50090, 10/01/01. 77 FR 58006, 9/19/12.
| * * * * * * *
| Machinery Master Enterprises Ltd. (MME), Islamabad. | For all items subject to the EAR. | Case-by-case for all items listed on the CCL. Presumption of approval for EAR99 items. | 63 FR 64322, 11/19/98. 65 FR 14444, 03/17/00. 66 FR 50090, 10/01/01. 77 FR 58006, 9/19/12.
| Maple Engineering Pvt. Ltd. Consultants, Importers and Exporters, Islamabad. | For all items subject to the EAR. | Case-by-case for all items listed on the CCL. Presumption of approval for EAR99 items. | 63 FR 64322, 11/19/98. 65 FR 14444, 03/17/00. 66 FR 50090, 10/01/01. 77 FR 58006, 9/19/12.
| * * * * * * *
| Pakistan Atomic Energy Commission (PAEC), a.k.a., the following alias: —Power Plant Workshops, P.O. Box 1114, Islamabad; and the following three subordinate entities: —National Development Complex (NDC), a.k.a., the following two aliases: —National Development Centre; and —National Defense Complex, | For all items subject to the EAR. | Case-by-case for all items listed on the CCL. Presumption of approval for EAR99 items. | 63 FR 64322, 11/19/98. 65 FR 14444, 03/17/00. 66 FR 50090, 10/01/01. 77 FR 58006, 9/19/12.
| Fateh Jang, Punjab, Rawalpindi, Pakistan; and P.O. Box 2216, Islamabad, Pakistan; —Pakistan Institute for Nuclear Science and Technology (PINSTECH), Nilore, Islamabad; —Nuclear reactors (including power plants), fuel reprocessing and enrichment facilities, all uranium processing, conversion and enrichment facilities, heavy water production facilities and any collocated ammonia plants.
| People's Steel Mills, Javedan Nagar, Manghopir Road, Karachi 75890, Pakistan. | For all items subject to the EAR. | Case-by-case for all items listed on the CCL. Presumption of approval for EAR99 items. | 63 FR 64322, 11/19/98. 65 FR 14444, 03/17/00. 66 FR 50090, 10/01/01. 77 FR 58006, 9/19/12.
| * * * * * * *
| Space and Upper Atmosphere Research Commission (SUPARCO), a.k.a., the following alias: —Space and Upper Atmospheric Research Commission, Sector 28, Gulzar-e-Hijiri, Off University Road, P.O. Box 8402, Karachi 75270. | For all items subject to the EAR. | Case-by-case for all items listed on the CCL. Presumption of approval for EAR99 items. | 63 FR 64322, 11/19/98. 65 FR 14444, 03/17/00. 66 FR 50090, 10/01/01. 77 FR 58006, 9/19/12.
| * * * * * * *
| Wah Chemical Product Plant, a.k.a., the following alias: —Wah Nobel Chemicals Limited, Wah Cantonment, Rawalpindi, Pakistan. | For all items subject to the EAR | Case-by-case for all items listed on the CCL. Presumption of approval for EAR99 items. | 63 FR 64322, 11/19/98. 66 FR 50090, 10/01/01. 77 FR 58006, 9/19/12.
| Wah Munitions Plant, Wah Cantonment, Rawalpindi, Pakistan. | For all items subject to the EAR. | Case-by-case for all items listed on the CCL. Presumption of approval for EAR99 items. | 63 FR 64322, 11/19/98. 65 FR 14444, 03/17/00. 66 FR 50090, 10/01/01. 77 FR 58006, 9/19/12.
| * * * * * * *
Singapore
| * * * * * * *
| Cyberinn PTE LTD, a.k.a., the following alias: —Index Consultancy & Services PTE LTD., 1 Rochor Canal Road, #06-07 Sim Lim Square, 188504, Singapore. | For all items subject to the EAR. (See § 744.11 of the EAR). | Presumption of denial | 73 FR 54508, 9/22/08. 77 FR 58006, 9/19/12.
| * * * * * * *
South Africa | Gunther Migeotte, 1 River Street, Rosebank, Cape Town, 7700, South Africa; and P.O. Box 36623, Menlo Park, 0102, South Africa; and 16 Manu Rua, 262 Sprite Avenue, Faerie Glen, 0081, South Africa; and Suite 17-106, The Waverley Business Park, Wyecroft Rd., Mowbray, Cape Town, 7925, South Africa (See alternate address under Norway). | For all items subject to the EAR. (See § 744.11 of the EAR). | Presumption of denial | 75 FR 36516, 6/28/10. 77 FR 58006, 9/19/12.
| Icarus Marine (Pty) Ltd., 1 River Street, Rosebank, Cape Town, South Africa; and Suite 17-106, The Waverley Business Park, Wyecroft Rd., Mowbray, Cape Town, 7925, South Africa. | For all items subject to the EAR. (See § 744.11 of the EAR). | Presumption of denial | 75 FR 36516, 6/28/10. 77 FR 58006, 9/19/12.
| Ralph Brucher, P.O. Box 9523, Centurion 0046, South Africa; and Unit 4, Techni Park East, Alwyn Street, Meyerspark Silverton, Pretoria, Gauteng, South Africa; and Batter St, Techniec Park East, Silverton, Pretoria, 0184, South Africa; and 26 Jakaranda St, Centurion, Gauteng 0157, South Africa; and Jacaranda St, Hennopspark Ext 7, Centurion, South Africa. | For all items subject to the EAR. (See § 744.11 of the EAR). | Presumption of denial | 75 FR 36516, 6/28/10. 77 FR 58006, 9/19/12.
| Scavenger Manufacturing (Pty) Ltd., P.O. Box 288, Silverton, Pretoria 0127, South Africa; and Unit 4, Techni Park East, Alwyn Street, Meyerspark Silverton, Pretoria, Gauteng, South Africa; and Batter St, Techniec Park East, Silverton, Pretoria, 0184, South Africa; and 26 Jakaranda St, Centurion, Gauteng 0157, South Africa; and Jacaranda St, Hennopspark Ext 7, Centurion, South Africa; and P.O. Box 9523, Centurion 0046, South Africa. | For all items subject to the EAR. (See § 744.11 of the EAR). | Presumption of denial | 75 FR 36516, 6/28/10. 77 FR 58006, 9/19/12.
| Shawn Hugo De Villiers, 1 River Street, Rosebank, Cape Town 7700, South Africa; and Myburgii Street, Somerset West, Cape Town, South Africa; and Suite 17-106, The Waverley Business Park, Wyecroft Rd., Mowbray, Cape Town, 7925, South Africa. | For all items subject to the EAR. (See § 744.11 of the EAR). | Presumption of denial | 75 FR 36516, 6/28/10. 77 FR 58006, 9/19/12.
| * * * * * * *
Uganda | UCB Arcade, a.k.a., the following alias: —Allied Trading Co. P.O. Box 5999, Kampala, Uganda (See alternate address under Allied Trading Co. in Pakistan). | For all items subject to the EAR. (See § 744.11 of the EAR). | Presumption of denial | 77 FR 58006, 9/19/12.
| * * * * * * *
United Arab Emirates
| * * * * * * *
| Alex Nouri Zadeh, a.k.a. the following three aliases: —Alex Banai; —Alex Norry; and —Nouri Zadeh, No. 102 and 106, 1st Floor, K5 Entrance, Alshami Rest. Bldg., Al Muraqqabat Rd., Deira, Dubai, 184609 U.A.E.; and P.O. Box 184607, Dubai, U.A.E. | For all items subject to the EAR. (See § 744.11 of the EAR). | Presumption of denial | 77 FR 58006, 9/19/12.
| * * * * * * *
| Fajr Almadeena Electronics, No. 102 and 106, 1st Floor, K5 Entrance, Alshami Rest. Bldg., Al Muraqqabat Rd., Deira, Dubai, 184609 U.A.E.; and P.O. Box 184607, Dubai, U.A.E. | For all items subject to the EAR. (See § 744.11 of the EAR). | Presumption of denial | 77 FR 58006, 9/19/12.
| * * * * * * *
| Jamal Hasan, a.k.a. the following alias: —Jamal Haji, No. 102 and 106, 1st Floor, K5 Entrance, Alshami Rest. Bldg., Al Muraqqabat Rd., Deira, Dubai, 184609 U.A.E.; and P.O. Box 184607, Dubai, U.A.E. | For all items subject to the EAR. (See § 744.11 of the EAR). | Presumption of denial | 77 FR 58006, 9/19/12.
| * * * * * * *
| Mohammad Nayeb, No. 102 and 106, 1st Floor, K5 Entrance, Alshami Rest. Bldg., Al Muraqqabat Rd., Deira, Dubai, 184609 U.A.E.; and P.O. Box 184607, Dubai, U.A.E. | For all items subject to the EAR. (See § 744.11 of the EAR). | Presumption of denial | 77 FR 58006, 9/19/12.
| * * * * * * *
| Seyed Mahdi Mousavi, P.O. Box 49465, Dubai, UAE; and P.O. Box 7941, Dubai, U.A.E. (See alternate addresses under Iran). | For all items subject to the EAR. (See § 744.11 of the EAR). | Presumption of denial | 77 FR 58006, 9/19/12.
| Seyed Mousavi Trading, a.k.a., the following two aliases: —Hitech Computer Peripherals; and —Hitech Corporation. P.O. Box 49465, Dubai, UAE; and P.O. Box 7941, Dubai, U.A.E. (See alternate addresses under Iran). | For all items subject to the EAR. (See § 744.11 of the EAR). | Presumption of denial | 77 FR 58006, 9/19/12.
| * * * * * * *

Dated: September 12, 2012.
Kevin J. Wolf,
Assistant Secretary for Export Administration.

[FR Doc. 2012-22952 Filed 9-18-12; 8:45 am]

BILLING CODE 3510-33-P